DEPARTMENT OF EDUCATION

[CFDA Numbers 84.133E-1 and 84.133E-3]

Final Priorities; Disability and Rehabilitation Research Projects and Centers Program

AGENCY: Office of Special Education and Rehabilitative Services, Department of Education.

ACTION: Notice of final priorities for two Rehabilitation Engineering Research Centers (RERCs).

SUMMARY: The Assistant Secretary for Special Education and Rehabilitative Services announces two priorities for RERCs: Low Vision and Blindness (Priority 1) and Wireless Technologies (Priority 2). The Assistant Secretary may use these priorities for competitions in fiscal year (FY) 2011 and later years. We take this action to focus research attention on areas of national need. We intend to use these priorities to improve rehabilitation services and outcomes for individuals with disabilities.

DATES: Effective Date: These priorities are effective July 25, 2011.

FOR FURTHER INFORMATION CONTACT: Marlene Spencer, U.S. Department of Education, 400 Maryland Avenue, SW., room 5133, Potomac Center Plaza (PCP), Washington, DC 20202-2700. Telephone: (202) 245-7532 or by e-mail: marlene.spencer@ed.gov.

If you use a telecommunications device for the deaf (TDD), call the Federal Relay Service, toll free, at 1-800-877-8339.

SUPPLEMENTARY INFORMATION: This notice of final priorities (NFP) is in concert with National Institute on Disability and Rehabilitation Research's (NIDRR's) currently approved Long-Range Plan (Plan). The Plan, which was published in the Federal Register on February 15, 2006 (71 FR 8165), can be accessed on the Internet at the following site: http://www.ed.gov/about/offices/list/osers/nidrr/policy.html.

Through the implementation of the Plan, NIDRR seeks to: (1) Improve the quality and utility of disability and rehabilitation research; (2) foster an exchange of expertise, information, and training to facilitate the advancement of knowledge and understanding of the unique needs of traditionally underserved populations; (3) determine the best strategies and programs to improve rehabilitation outcomes for underserved populations; (4) identify research gaps; (5) identify mechanisms of integrating research and practice; and (6) disseminate findings.

This notice announces two priorities that NIDRR intends to use for RERC competitions in FY 2011 and possibly later years. However, nothing precludes NIDRR from publishing additional priorities, if needed. Furthermore, NIDRR is under no obligation to make an award for these priorities. The decision to make an award will be based on the quality of applications received and available funding.

Purpose of Program: The purpose of the Disability and Rehabilitation Research Projects and Centers Program is to plan and conduct research, demonstration projects, training, and related activities, including international activities; to develop methods, procedures, and rehabilitation technology that maximize the full inclusion and integration into society, employment, independent living, family support, and economic and social self-sufficiency of individuals with disabilities, especially individuals with the most severe disabilities; and to improve the effectiveness of services authorized under the Rehabilitation Act of 1973, as amended (Rehabilitation Act).

Rehabilitation Engineering Research Centers Program (RERCs)

The purpose of the RERC program is to improve the effectiveness of services authorized under the Rehabilitation Act by conducting advanced engineering research on and development of innovative technologies that are designed to solve particular rehabilitation problems, or to remove environmental barriers. RERCs also demonstrate and evaluate such technologies, facilitate service delivery system changes, stimulate the production and distribution of new technologies and equipment in the private sector, and provide training opportunities.

General Requirements of RERCs

RERCs carry out research or demonstration activities in support of the Rehabilitation Act by—

• Developing and disseminating innovative methods of applying advanced technology, scientific achievement, and psychological and social knowledge to solve rehabilitation problems and to remove environmental barriers through studying and evaluating new or emerging technologies, products, or environments and their effectiveness and benefits; or

• Demonstrating and disseminating: (a) Innovative models for the delivery of cost-effective rehabilitation technology services to rural and urban areas; and (b) other scientific research to assist in meeting the employment and independent living needs of individuals with severe disabilities; and

• Facilitating service delivery systems change through: (a) The development, evaluation, and dissemination of innovative, consumer-responsive, and individual- and family-centered models for the delivery to both rural and urban areas of innovative cost-effective rehabilitation technology services; and (b) other scientific research to assist in meeting the employment and independent living needs of and addressing the barriers confronted by individuals with disabilities, including individuals with severe disabilities.

Each RERC must be operated by, or in collaboration with, one or more institutions of higher education or one or more nonprofit organizations.

Each RERC must provide training opportunities, in conjunction with institutions of higher education or nonprofit organizations, to assist individuals, including individuals with disabilities, to become rehabilitation technology researchers and practitioners.

Each RERC must emphasize the principles of universal design in its product research and development. Universal design is the design of products and environments to be usable by all people, to the greatest extent possible, without the need for adaptation or specialized design (North Carolina State University, 1997, The Center for Universal Design, http://www.design.ncsu.edu/cud/about_ud/udprinciplestext.htm).

Additional information on the RERC program can be found at: http://www.ed.gov/rschstat/research/pubs/index.html.

Program Authority: 29 U.S.C. 762(g) and 764(b)(3).

Applicable Program Regulations: 34 CFR part 350.

We published a notice of proposed priorities (NPP) for NIDRR's Disability and Rehabilitation Research Projects and Centers Program in the Federal Register on March 29, 2011 (76 FR 17396). That notice contained background information and our reasons for proposing the particular priorities.

Public Comment: In response to our invitation in the NPP, five parties submitted comments on the proposed priorities.

Generally, we do not address technical and other minor changes. In addition, we do not address general comments that raised concerns not directly related to the proposed priorities.

Analysis of Comments and Changes: An analysis of the comments and of any changes in the priorities since publication of the NPP follows.

Low Vision and Blindness

Comment: One commenter recommended that the Low Vision and Blindness priority should emphasize a model of assistive technology development in which mainstream, mass-market products are designed with accessibility features to meet the needs of individuals with low vision and blindness. The commenter noted that this model is more likely to lead to low-cost products, relative to the model in which specialized products are designed for the relatively small market of individuals with low vision and blindness.

Discussion: NIDRR agrees that the development of mass-marketed products with accessibility features can lead to lower costs for consumers who are blind or have low vision. The Low Vision and Blindness priority provides the flexibility for applicants to propose projects that use this kind of mass-market development model. However, NIDRR recognizes that a model that focuses on developing other more specialized or customized technologies and products may be needed in order to develop useful and appropriate technologies and products for individuals who are blind or have low vision. For this reason, we also provide applicants with the flexibility to use models that focus on these technologies and products.

Changes: None.

Comment: One commenter suggested that NIDRR require the RERC to work directly with companies that are in a position to manufacture and sell products in order to expedite the process of transferring the RERC's work to consumers in the market.

Discussion: NIDRR agrees that collaborations with companies and industry partners can expedite the process of technology transfer. The RERC priority requirements, which apply to both the Low Vision and Blindness and Wireless Technologies priorities, include a requirement to collaborate with relevant industry partners to improve research capacity. This collaboration may also expedite the transfer of the RERC's work to consumers in the market. In an effort to increase transfer of RERC-developed technologies to the marketplace, NIDRR also requires RERCs to develop a technology transfer plan in the first year of the grant. Therefore, NIDRR believes that an additional requirement to collaborate with relevant industry partners is unnecessary. The current requirements achieve the commenter's aim of expediting the technology transfer process.

Changes: None.

Comment: One commenter suggested that the Low Vision and Blindness priority include more explicit language about the RERC's role as a clearinghouse for information on technologies for individuals who are blind or have low vision.

Discussion: NIDRR agrees that the RERC should have responsibility for providing information about technologies for individuals who are blind or have low vision. Paragraph (4) of the priority requires each RERC to communicate with a wide variety of stakeholders about trends and evolving product concepts related to its designated topic. Paragraph (5) of the priority also requires each RERC to provide technical assistance to stakeholders on relevant policies, guidelines, and standards related to its designated topic. Finally, the RERC priority requirements, which apply to both the Low Vision and Blindness and Wireless Technologies priorities, include a requirement that the RERC disseminate its research results to relevant stakeholders. For these reasons, we believe that this priority provides sufficiently for the RERC's role in transmitting information on technologies for individuals who are blind or have low vision, and, therefore, decline to add more explicit language as requested.

Changes: None.

Comment: One commenter suggested that the Low Vision and Blindness priority should contain more explicit language about the RERC's requirement to collaborate with developers of technology from outside the RERC, researchers, and students in the field.

Discussion: The requirements that are applicable to both RERC priorities include a requirement to collaborate with relevant industry partners and relevant NIDRR-funded research projects. While the priority does not require collaboration with developers of technology or with students in the field, nothing in the priority precludes such collaborations. NIDRR does not have a sufficient basis for requiring all applicants to propose to collaborate with developers from outside of the RERC or with students in the field. We believe individual projects are well positioned to determine entities with whom to collaborate, and this priority provides them with adequate flexibility to do so.

Changes: None.

Comment: One commenter expressed concern about language in the Low Vision and Blindness priority that refers to improved vision assessment for the population of individuals who are at risk for experiencing low vision and blindness. This commenter stated that such language would result in having the RERC focus on prevention of blindness among at-risk individuals, instead of on assessments and technologies to meet the needs of individuals who already experience vision loss.

Discussion: The priority includes requirements for research and development that will improve access to graphical information, signage, and travel information and devices, as well as development of technologies to promote the participation of individuals with low vision and blindness in science, technology, engineering, and mathematics (STEM) education. In order to facilitate early intervention and better outcomes, NIDRR requires the RERC to focus on improved vision assessment technologies to improve the field's ability to detect and serve emerging populations of individuals who are blind or who have low vision. While applicants may develop improved assessment technologies that would facilitate prevention of low vision and blindness among at-risk populations, the RERC must focus its resources on the multiple requirements related to research on and development of technologies to promote the independence of individuals who are blind or who have low vision.

Changes: None.

Comment: One commenter recommended that NIDRR revise the Low Vision and Blindness priority to require the RERC to investigate and address the employment needs of older individuals with low vision and blindness.

Discussion: Nothing in the priority precludes applicants from proposing a project or projects that emphasize employment for older individuals with low vision and blindness. However, NIDRR does not have a sufficient basis for requiring all applicants to focus on this specific topic or population. NIDRR does not want to limit applicants' ability to propose projects that address other important topics, outcomes, or populations by requiring research and development to support employment of older individuals with low vision and blindness.

Changes: None.

Comment: One commenter recommended that we revise the Low Vision and Blindness priority to require the RERC to develop its research and development plans based upon the input of the diverse population of individuals with vision loss and the organizations that represent them. This commenter also recommended that NIDRR require active partnerships between the RERC and organizations that represent individuals living with vision loss.

Discussion: The RERC priority requirements, which apply to both the Low Vision and Blindness and Wireless Technologies priorities, include a requirement that each RERC develop and implement a plan for including individuals with disabilities or their representatives in all phases of its activities, including research, development, training, dissemination, and evaluation. In developing such a plan, applicants may determine the timing and extent of involvement of individuals with disabilities in their activities. Nothing in the priority precludes applicants from proposing to develop active partnerships with organizations that represent individuals who are living with vision loss. However, NIDRR does not have a sufficient basis for requiring all applicants to do so. NIDRR does not want to limit applicants' ability to propose alternative mechanisms for including individuals with disabilities or their representatives in the RERC's work.

Changes: None.

Comment: In reference to the requirement in the priority that the RERC must research and develop technologies to promote the participation of individuals with low vision and blindness in STEM education, one commenter expressed concern that the RERC would focus its work exclusively in this area and produce solutions with limited relevance outside of the classroom. The commenter recommended that we revise the priority to ensure that the RERC's activities are aimed at developing technologies for use in the home, at school, and in the community by individuals with vision loss of all ages.

Discussion: NIDRR agrees that the RERC's work should address the needs of individuals with low vision and blindness of all ages and in all settings. The Low Vision and Blindness priority states that the RERC must research and develop technologies that will improve the assessment of low vision and blindness and promote independence for individuals with low vision and blindness of all ages. Within the broad requirements of the priority, applicants are free to focus their research and development towards finding solutions that benefit subpopulations in settings, inside and outside of the classroom, where they see the greatest need.

Changes: None.

Comment: One commenter expressed support for the requirement in the Low Vision and Blindness priority that the grantee must research and develop technologies that will improve the assessment of low vision and blindness and promote independence for individuals with low vision and blindness of all ages, including those who are deaf-blind and those with multiple disabilities. This commenter noted, however, that individuals with low vision and blindness who have other disabling conditions cannot be easily categorized according to their disabling conditions, and that their technology needs are largely driven by their functional abilities. The commenter suggested that NIDRR revise the priority to require research and development that accounts for variations in functional abilities among individuals with low vision and blindness and other disabling conditions.

Discussion: NIDRR does not agree that the priority should be revised to be more prescriptive in terms of the conceptual and methodological strategies used by the RERC, as suggested by the commenter. NIDRR strongly believes that applicants should have the flexibility to propose a wide variety of research and development approaches that meet the requirements of the priority. The peer review process will determine the merits of each proposal.

Changes: None.

Wireless Technologies

Comment: One commenter suggested that NIDRR revise the Wireless Technologies priority to require applicants to focus on the research and development of low-cost or no-cost options for access to wireless technologies by people with disabilities. Specifically, the commenter recommended that the priority require the development of access solutions that are built into wireless technologies or that allow third parties to provide low-cost access solutions for those technologies.

Discussion: Nothing in the priority precludes applicants from proposing research and development projects that focus on low- or no-cost access solutions for wireless technologies, including built-in or third-party solutions. However, NIDRR does not have a sufficient basis for requiring all applicants to do so. NIDRR does not want to limit applicants' ability to propose other important research and development approaches and projects by requiring all applicants to focus their work on built-in or third-party accessibility solutions.

Changes: None.

Comment: One commenter suggested that the Wireless Technologies priority should be broad enough to include research to develop accessibility solutions for consumer electronics that employ wireless technologies to communicate with other devices.

Discussion: Nothing in the Wireless Technologies priority precludes applicants from proposing projects to develop accessibility solutions for consumer electronics that employ wireless technologies to communicate with other devices. However, NIDRR does not have a sufficient basis for requiring all applicants to do so. NIDRR does not want to limit applicants' ability to propose other important research and development projects by requiring all applicants to focus their work in this area.

Changes: None.

Final Priorities

Priority 1—Low Vision and Blindness.

The Assistant Secretary for Special Education and Rehabilitative Services establishes a priority for a Rehabilitation Engineering Research Center (RERC) on Low Vision and Blindness. This RERC must research and develop technologies that will improve the assessment of low vision and blindness and promote independence for individuals with low vision and blindness of all ages, including those who are deaf-blind and those with multiple disabilities. Specifically, the RERC must improve vision assessment for the changing and expanding population of individuals who are at risk for experiencing low vision and blindness, including but not limited to, the elderly, returning military veterans, and prematurely born infants. The RERC must also research and develop technologies that will improve individuals' access to graphical information, signage, and travel information and devices and appliances that have digital displays and control panels. In addition, the RERC must research and develop technologies to promote the participation of individuals with low vision and blindness in science, technology, engineering, and mathematics (STEM) education. Regarding participation in STEM education, these technologies include but are not limited to accessible scientific measurement instruments, tools, and materials.

Priority 2—RERC on Wireless Technologies.

The Assistant Secretary for Special Education and Rehabilitative Services establishes a priority for a Rehabilitation Engineering Research Center (RERC) on Wireless Technologies. Under this priority, the RERC must research, develop, and evaluate innovative technologies and products that facilitate the use of wireless technologies for individuals with disabilities. The RERC must research and develop wireless hardware and software that will meet the needs, promote independence, and improve the quality of life and community participation of individuals with disabilities. The RERC must also work with and provide information to relevant Federal agencies, designers, and manufacturers regarding barriers to and methods for facilitating the use of wireless technologies by individuals with disabilities.

Requirements Applicable to Both Priorities

A RERC established under either of the proposed priorities in this notice must be designed to contribute to the following outcomes:

(1) Increased technical and scientific knowledge relevant to its designated priority research area. The RERC must contribute to this outcome by conducting high-quality, rigorous research and development projects.

(2) Increased innovation in technologies, products, environments, performance guidelines, and monitoring and assessment tools applicable to its designated priority research area. The RERC must contribute to this outcome through the development and testing of these innovations.

(3) Improved research capacity in its designated priority research area. The RERC must contribute to this outcome by collaborating with the relevant industry, professional associations, institutions of higher education, health care providers, or educators, as appropriate.

(4) Improved awareness and understanding of cutting edge developments in technologies within its designated priority research area. The RERC must contribute to this outcome by identifying and communicating with NIDRR, individuals with disabilities and their representatives, disability organizations, service providers, professional journals, manufacturers, and other interested parties regarding trends and evolving product concepts related to its designated priority research area.

(5) Increased impact of research in the designated priority research area. The RERC must contribute to this outcome by providing technical assistance to relevant public and private organizations, individuals with disabilities, employers, and schools on policies, guidelines, and standards related to its designated priority research area.

(6) Increased transfer of RERC-developed technologies to the marketplace. The RERC must contribute to this outcome by developing and implementing a plan for ensuring that all technologies developed by the RERC are made available to the public. The technology transfer plan must be developed in the first year of the project period in consultation with the NIDRR-funded Disability Rehabilitation Research Project, Center on Knowledge Translation for Technology Transfer.

In addition, under each priority, the RERC must—

• Have the capability to design, build, and test prototype devices and assist in the technology transfer and knowledge translation of successful solutions to relevant production and service delivery settings;

• Evaluate the efficacy and safety of its new products, instrumentation, or assistive devices;

• Provide as part of its proposal, and then implement, a plan that describes how it will include, as appropriate, individuals with disabilities or their representatives in all phases of its activities, including research, development, training, dissemination, and evaluation;

• Provide as part of its proposal, and then implement, in consultation with the NIDRR-funded National Center for the Dissemination of Disability Research, a plan to disseminate its research results to individuals with disabilities and their representatives, disability organizations, service providers, professional journals, manufacturers, and other interested parties;

• Conduct a state-of-the-science conference on its designated priority research area in the fourth year of the project period, and publish a comprehensive report on the final outcomes of the conference in the fifth year of the project period; and

• Coordinate research projects of mutual interest with relevant NIDRR-funded projects, as identified through consultation with the NIDRR project officer.

Types of Priorities

When inviting applications for a competition using one or more priorities, we designate the type of each priority as absolute, competitive preference, or invitational through a notice in the Federal Register. The effect of each type of priority follows:

Absolute priority: Under an absolute priority, we consider only applications that meet the priority (34 CFR 75.105(c)(3)).

Competitive preference priority: Under a competitive preference priority, we give competitive preference to an application by (1) Awarding additional points, depending on the extent to which the application meets the priority (34 CFR 75.105(c)(2)(i)); or (2) selecting an application that meets the priority over an application of comparable merit that does not meet the priority (34 CFR 75.105(c)(2)(ii)).

Invitational priority: Under an invitational priority, we are particularly interested in applications that meet the priority. However, we do not give an application that meets the priority a preference over other applications (34 CFR 75.105(c)(1)).

This notice does not preclude us from proposing additional priorities, requirements, definitions, or selection criteria, subject to meeting applicable rulemaking requirements.

Note: This notice does not solicit applications. In any year in which we choose to use one or more of these priorities, we invite applications through a notice in the Federal Register.

Executive Order 12866: This notice has been reviewed in accordance with Executive Order 12866. Under the terms of the order, we have assessed the potential costs and benefits of this final regulatory action.

The potential costs associated with this final regulatory action are those resulting from statutory requirements and those we have determined as necessary for administering this program effectively and efficiently.

In assessing the potential costs and benefits—both quantitative and qualitative—of this final regulatory action, we have determined that the benefits of the final priorities justify the costs.

Summary of potential costs and benefits: The benefits of the Disability and Rehabilitation Research Projects and Centers Programs have been well established over the years in that similar projects have been completed successfully. These final priorities will generate new knowledge through research and development. Another benefit of these final priorities is that the establishment of new RERCs will improve the lives of individuals with disabilities. The new RERCs will generate and promote the use of new technologies and information that will improve the options for individuals with disabilities with regard to community living and community participation.

Accessible Format: Individuals with disabilities can obtain this document in an accessible format (e.g., braille, large print, audiotape, or computer diskette) on request to the Grants and Contracts Services Team, U.S. Department of Education, 400 Maryland Avenue, SW., room 5075, PCP, Washington, DC 20202-2550. Telephone: (202) 245-7363. If you use a TDD, call the FRS, toll free, at 1-800-877-8339.

Electronic Access to This Document: The official version of this document is the document published in the Federal Register. Free Internet access to the official edition of the Federal Register and the Code of Federal Regulations is available via the Federal Digital System at: http://www.gpo.gov/fdsys. At this site you can view this document, as well as all other documents of this Department published in the Federal Register, in text or Adobe Portable Document Format (PDF). To use PDF you must have Adobe Acrobat Reader, which is available free at the site.

You may also access documents of the Department published in the Federal Register by using the article search feature at: http://www.federalregister.gov. Specifically, through the advanced search feature at this site, you can limit your search to documents published by the Department.

Dated: June 21, 2011.
Alexa Posny,
Assistant Secretary for Special Education and Rehabilitative Services.

[FR Doc. 2011-15932 Filed 6-23-11; 8:45 am]

BILLING CODE 4000-01-P